DEPARTMENT OF JUSTICE

Notice of Lodging of Consent Decree Pursuant to the Comprehensive Environmental Response, Compensation and Liability Act

In accordance with Section 122 of the Comprehensive Environmental Response, Compensation and Liability Act (CERCLA), 42 U.S.C. 9622, the Department of Justice gives notice that, on January 6, 2009, a proposed Consent Decree (the Decree) in United States v. Beckman Coulter, Inc., et al., Civil Action No. 98-CV-4812, and New Jersey Department of Environmental Protection, et al. v. American Thermoplastics Corp., et al., Civil Action No. 98-CV-4781, was lodged with the United States District Court for the District of New Jersey. The Decree addresses recovery of response costs incurred or to be incurred and natural resource damages at the Combe Fill South Landfill Superfund Site (the Site), located in Washington and Chester Townships in Morris County, New Jersey. In these consolidated cases, the United States and the New Jersey Department of Environmental Protection brought civil claims against 31 potentially responsible parties (PRPs) under Section 107 of CERCLA, 42 U.S.C. 9607, for recovery of response costs at the Site. The State Plaintiffs also brought civil claims in connection with the Site under the New Jersey Spill Compensation and Control Act (the Spill Act), N.J.S.A. 58:10-23 et seq., and other authorities, for response costs and natural resource damages. Defendants subsequently filed contribution claims against 382 third-parties.

Under the proposed Decree, Plaintiffs will receive: (1) $61-$69 million (depending on how many Municipal Third-Party Defendants enter into the settlement prior to entry of the Decree by the Court), including $6.4 million from federal departments and agencies, in reimbursement of past costs, with interest on that entire past costs amount payable from December 8, 2007 through the date of payment; (2) $3,218,700 for natural resource damage (NRD) restoration projects; and (3) an annuity paying $27 million over thirty years for cleanup and operation and maintenance (O&M) costs to be incurred at the Site in connection with the remedy. In addition, Plaintiffs will recover the net proceeds of contribution actions against non-settling parties.

There have been two prior settlements in these cases. In 2003, in two de minimis consent decrees, Plaintiffs resolved the liability of 58 de minimis parties for response costs for $3.26 million and resolved the liability of a subset of those parties for NRD for $302,000. Subsequently, in 2005, Plaintiffs entered into an ability-to-pay settlement with former Site owners and transporters for $13,047,121.50.

This Decree does not select the remedy or determine future uses at the Site. Rather, the settlement provides, in part, continued funding for the remedy selected in the 1986 Site Record of Decision. The Decree also provides settling parties a Covenant Not to Sue by the Plaintiffs pursuant to CERCLA and Section 7003 of the Resource Conservation and Recovery Act (RCRA), 42 U.S.C. 9673, for all costs and remedial activities at the Site. The State Plaintiffs similarly provide a Covenant Not to Sue pursuant to the Spill Act and other authorities. In the event new information or conditions are discovered, the Covenants are subject to a reopener against parties specified in the Decree believed to have sent higher volumes of waste to the Site.

The Department of Justice will receive, for a period of thirty (30) days from the date of this publication, comments relating to the proposed Consent Decree. Comments should be addressed to the Assistant Attorney General, Environment and Natural Resources Division, and either e-mailed to pubcomment-ees.enrd@usdoj.gov or mailed to United States Department of Justice, Post Office Box 7611, Washington, DC 20044-7611, and should refer to United States v. Beckman Coulter, Inc., et al., Civil Action No. 98-CV-4812, and DOJ Reference No. 90-11-2-1134/1. Commenters may request an opportunity for a public meeting in the affected area, in accordance with Section 7003(d) of RCRA, 42 U.S.C. 6973(d). The proposed Decree may be examined at: (1) The Office of the United States Attorney for the District of New Jersey, 970 Broad Street-Room 700, Newark, New Jersey 07102 (973-645-2700); and (2) the United States Environmental Protection Agency-Region II, 290 Broadway-17th Floor, New York, New York 10007 (contact: William C. Tucker, Assistant Regional Counsel, 212-637-3139).

During the public comment period, the proposed Decree may also be examined at the Department of Justice Web site, http://www.usdoj.gov/enrd/Consent_Decrees.html. A copy of the proposed Decree may also be obtained by mail from the Consent Decree Library, United States Department of Justice, Post Office Box 7611, Washington, DC 20044-7611 or by faxing or e-mailing a request to Tonia Fleetwood (tonia.fleetwood@usdoj.gov) (fax 202-514-0097, phone confirmation 202-514-1547). In requesting a copy from the Consent Decree Library, please refer to the referenced case and DOJ Reference Number and enclose a check for $59.25 for the Decree (237 pages including Appendices, at 25 cents per page reproduction costs), made payable to the United States Treasury or, if by e-mail or fax, forward a check in that amount to the Consent Decree Library at the stated address.

Ronald G. Gluck,
Assistant Chief, Environmental Enforcement Section, Environment and Natural Resources Division.

[FR Doc. E9-1147 Filed 1-21-09; 8:45 am]

BILLING CODE 4410-15-P